SMALL BUSINESS ADMINISTRATION

[Disaster Declaration #10324]

South Dakota Disaster Number SD-00003

AGENCY: U.S. Small Business Administration.

ACTION: Amendment 1.

SUMMARY: This is an amendment of the Presidential declaration of a major disaster for Public Assistance Only for the State of South Dakota (FEMA-1620-DR), dated December 20, 2005.

Incident: Severe winter storm.

Incident Period: November 27, 2005 through November 29, 2005.

Effective Date: January 17, 2006.

Physical Loan Application Deadline Date: February 21, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of South Dakota dated December 20, 2005, is hereby amended to include the following areas as adversely affected by the disaster.

Primary County: Hand.

All other information in the original declaration remains unchanged.

(Catalog of Federal Domestic Assistance Number 59008)

Herbert L. Mitchell,
Associate Administrator for Disaster Assistance.

[FR Doc. E6-1463 Filed 2-2-06; 8:45 am]

BILLING CODE 8025-01-P